DEPARTMENT OF THE INTERIOR

Bureau of Reclamation

[RR02054000, 19XR0687NA, RX.18527901.3000000]

Central Valley Project Improvement Act Criteria for Developing Refuge Water Management Plans 2020

AGENCY: Bureau of Reclamation, California-Great Basin—Interior Region 10.

ACTION: Notice of availability.

SUMMARY: The Bureau of Reclamation has made available to the public the draft Criteria for Developing Refuge Water Management Plans 2020 (2020 Refuge Criteria) for public review and comment. Reclamation is publishing this notice in order to allow the public an opportunity to review the draft 2020 Refuge Criteria.

DATES: Submit written comments on the preliminary determinations on or before May 18, 2020.

ADDRESSES: Send written comments to Mr. David T. White, Bureau of Reclamation, 2800 Cottage Way, CGB-410, Sacramento, CA 95825; or via email at dwhite@usbr.gov.

FOR FURTHER INFORMATION CONTACT: To be placed on a mailing list for any subsequent information, please contact Mr. White at dwhite@usbr.gov or at 916-978-5208 (TDD 978-5608).

SUPPLEMENTARY INFORMATION: Section 3405(e) of the Central Valley Project Improvement Act (Title 34 Pub. L. 102-575) requires the Secretary of the Interior to, among other things, “develop criteria for evaluating the adequacy of all water conservation plans” developed by certain contractors. According to Section 3405(e)(1), these criteria must promote “the highest level of water use efficiency reasonably achievable by project contractors using best available cost-effective technology and best management practices.” In accordance with this legislative mandate, the Bureau of Reclamation developed and published the Refuge Criteria, which is updated every 3 years.

We invite the public to comment on our preliminary (i.e., draft) 2020 Refuge Criteria.

A copy of the draft 2020 Refuge Criteria will be available for review at Reclamation's office in Sacramento, California, located at 2800 Cottage Way, CGB-410, Sacramento, CA 95825. If you wish to review a copy of the draft 2020 Refuge Criteria or receive an electronic copy via email, please contact Mr. White or visit https://www.usbr.gov/mp/watershare.

Sheryl Looper,
Acting Regional Resources Manager,Bureau of Reclamation, California-Great Basin—Interior Region 10.

[FR Doc. 2020-08155 Filed 4-16-20; 8:45 am]

BILLING CODE 4332-90-P